DEPARTMENT OF JUSTICE

Notice of Lodging of Consent Decree Under the Clean Air Act

Notice is hereby given that on October 7, 2011, a proposed Consent Decree in United States of America v. John Morrell & Co., Civil Action No. 4:11-cv-04143-LLP, D.J. Ref. 90-5-1-1-3973/1, was lodged with the United States District Court for the District of South Dakota.

In this action the United States sought civil penalties and injunctive relief in connection with Defendant John Morrell & Co.'s (“JMC”) violations of Section 112(r) of the Clean Air Act (“CAA”), 42 U.S.C. 7412(r) at its slaughterhouse and meatpacking facility in Sioux Falls, South Dakota (the “JMC Facility”). The United States contends that the JMC Facility's system of storing and using anhydrous ammonia was not in compliance with certain regulations of 40 CFR part 68, the chemical accident prevention provisions that implement CAA Section 112(r). JMC has fixed most of the alleged violations identified during an EPA inspection of the JMC Facility, and has agreed to institute a new nameplate and label creation procedure to fix the remaining deficiency related to the absence of appropriate nameplates and labels on various plant pipes and tanks. Finally, JMC will pay a civil penalty of $206,000.00 to resolve the alleged violations.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States of America v. John Morrell & Co., Civil Action No. 4:11-cv-04143-LLP, D.J. Ref. 90-5-1-1-3973/1.

During the public comment period, the Consent Decree may be examined on the following Web site, http://www.usdoj.gov/enrd/Consent_Decrees.html, maintained by the Department of Justice. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.50 (@ 25 cents per page reproduction cost) payable to the U.S. Treasury or, if by e-mail or fax, forward a check in that amount to the Consent Decree Library at the stated address.

Robert Brook,
Assistant Chief, Environmental Enforcement Section, Environment and Natural Resources Division.

[FR Doc. 2011-26539 Filed 10-13-11; 8:45 am]

BILLING CODE 4410-15-P